DEPARTMENT OF ENERGY

Federal Energy Regulatory Commission

Combined Notice of Filings

Take notice that the Commission has received the following Natural Gas Pipeline Rate and Refund Report filings:

Docket Numbers: RP20-1102-000.

Applicants: Iroquois Gas Transmission System, L.P.

Description: § 4(d) Rate Filing: 081820 Negotiated Rates—Castleton Commodities Merchant Trading L.P. R-4010-23 to be effective 9/1/2020.

Filed Date: 8/18/20.

Accession Number: 20200818-5050.

Comments Due: 5 p.m. ET 8/31/20.

Docket Numbers: RP20-1103-000.

Applicants: Dominion Energy Overthrust Pipeline, LLC.

Description: § 4(d) Rate Filing: Non-Conforming TSAs—Wyoming Interstate Company, LLC to be effective 10/1/2020.

Filed Date: 8/18/20.

Accession Number: 20200818-5080.

Comments Due: 5 p.m. ET 8/31/20.

Docket Numbers: RP20-1104-000.

Applicants: Tallgrass Interstate Gas Transmission, LLC.

Description: § 4(d) Rate Filing: TIGT 2020-08-18 Negotiated Rate Agreement Amendment to be effective 7/1/2020.

Filed Date: 8/18/20.

Accession Number: 20200818-5137.

Comments Due: 5 p.m. ET 8/31/20.

Docket Numbers: RP20-1105-000.

Applicants: Aethon III HV LLC, Aethon United BR LP.

Description: Joint Petition for Temporary Waivers of Capacity Release Regulations, et al. of Aethon United BR LP, et al. under RP20-1105.

Filed Date: 8/18/20.

Accession Number: 20200818-5147.

Comments Due: 5 p.m. ET 8/25/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2020.
Nathaniel J. Davis, Sr.,
Deputy Secretary.

[FR Doc. 2020-18607 Filed 8-24-20; 8:45 am]

BILLING CODE 6717-01-P